FEDERAL EMERGENCY MANAGEMENT AGENCY

Agency Information Collection Activities: Submission for OMB Review; Comment Request

ACTION: Notice and request for comments.

SUMMARY: The Federal Emergency Management Agency (FEMA) is submitting a request for review and approval of a collection of information under the emergency processing procedures in the Office of Management and Budget (OMB) regulation 5 CFR 1320.13. FEMA is requesting the collection of information to approved by October 26, 2001.

Supplementary: Information Public Law 106-398, Fire Investment and Response Enhancement (FIRE) Act, Title XVII—Assistance to Firefighters, recognized that America's fire departments provide service and protection with impact far beyond the borders of the communities that support them. In order to provide this service and protection with the effectiveness, speed, and safety that their home communities and the nation as a whole demand, many fire departments, local community and state entities will need to increase their resources, in any of several categories. PL 106-398 created a fund to support worthy proposals to address these needs. But PL 106-398 also recognized that our current understanding of the magnitude and nature of fire department needs is not well defined. Furthermore, the rationale for Federal government assistance to meet these needs is also in need of greater definition, given the normal presumption that routine fire protection is a local function, set to meet locally defined goals and supported by local resources. Accordingly, PL 106-398, Section 1701, Sec. 33 (b) required that the Director of the Federal Emergency Management Agency (FEMA) conduct a study to define the current role and activities associated with the fire services; determine the adequacy of current levels of funding; and provide a needs assessment to identify shortfalls

Collection of Information

Title: U.S. Fire Service Needs Assessment Survey.

Type of Information Collection: New.

Abstract: Public Law 106-398, Section 1701, Sec. 33 (b) required that the Director of the Federal Emergency Management Agency (FEMA) conduct a study to define the current role and activities associated with the fire services; determine the adequacy of current levels of funding; and provide a needs assessment to identify shortfalls. America's fire departments provide service and protection with impact far beyond the borders of the communities that support them. In order to provide this service and protection with the effectiveness, speed, and safety that their home communities and the nation as a whole demand, many fire departments will need to increase their resources, in any of several categories. Current understanding of the magnitude and nature of fire department needs is not well defined. Furthermore, the rationale for Federal government assistance to meet these needs is also in need of greater definition, given the normal presumption that routine fire protection is a local function, set to meet locally defined goals and supported by local resources. FEMA will use the expertise in the United States Fire Administration (USFA), the National Fire Protection Association (NFPA) and a Technical Advisory Group (TAG) drawn from national fire service organizations to define a survey questionnaire, the subject of this notice, asking fire departments to describe their current resources and to provide such other information as will allow for proper interpretation of their responses and translate them into needs, relative to a framework of requirements developed from the same experts and beginning with the requirements embedded in existing national standards and regulations. The resultant random stratified survey of fire departments and subsequent analysis will be compiled into a report to Congress, and the report also made available to the public via the Internet, in order to serve as the informational basis for future Federal investment in the fire service.

Affected Public: Non-for-profit; Federal Government; and State, Local or Tribal Government.

Estimated Total Annual Burden Hours: 8,958.

Estimated Cost: The estimated costs to the government will be contracted direct labor and associated overhead costs of $277,457. There would be no costs to the respondent other than the minimal direct labor cost of a single fire service worker taking a small amount of time to complete the survey and this would be applicable only to those fire departments with career employees. The majority of the respondents will be from volunteer fire departments from which no direct labor costs will be incurred. The estimate of respondent costs for those career departments is computed as follows: estimated number of surveys multiplied by the national average hourly rate of a firefighter of $18.65 multiplied by 0.33 (representing the estimated 20 minutes it takes to complete the survey) and multiply that by .25 which represents the percentage of respondents who are career (paid) personnel. Using this equation, total estimated costs to respondents of $41,770 is derived (27,148 estimated surveys × $18.65 = $506,310 × 0.33 = $167,082 × 0.25 = $41,770). The average cost per survey is $1.53. The respondents are under no obligation to complete the survey and may refuse to do so or stop at any time so the average cost to the respondent could easily not be incurred by refusing to fill out the survey.

COMMENTS: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities and Services Management Division, Administration and Resource Planning Directorate, Federal Emergency Management Agency, 500 C Street, SW, Room 316, Washington, DC 20472.

FOR FURTHER INFORMATION CONTACT: Contact Mark A Whitney, Fire Program Specialist, U.S. Fire Administration, (617) 984-7465, for additional information. You may contact Ms. Anderson for copies of the proposed collection of information at telephone number (202) 646-2625 or facsimile number (202) 646-3347 or e:mail muriel.Anderson@fema.gov.

Dated: September 28, 2001.
Reginald Trujillo,
Branch Chief, Program Services and Systems Branch, Facilities and Services Management Division, Administration and Resource Planning Directorate.

[FR Doc. 01-25243 Filed 10-5-01; 8:45 am]

BILLING CODE 6718-01-P